INTERNATIONAL TRADE COMMISSION

[Investigation Nos. 701-TA-319 and 322, and 731-TA-573 and 578 (Review) (Remand)]

Certain Carbon Steel Products (Cut to Length Plate) From Belgium and Germany; Notice of Remand Proceedings

AGENCY: International Trade Commission.

ACTION: Notice.

SUMMARY: The U.S. International Trade Commission (the Commission) hereby gives notice of the court-ordered remand of its antidumping and countervailing duty review investigations nos. 701-TA-319 and 322 (Review), and 731-TA-573 and 578 (Review).

EFFECTIVE DATE: February 12, 2003.

FOR FURTHER INFORMATION CONTACT: Rhonda Hughes, Office of General Counsel, telephone 202-205-3083; Bonnie Noreen, Office of Investigations, telephone 202-205-3167; or Elizabeth Haines, Office of Investigations, telephone 202-205-3200. Hearing-impaired individuals are advised that information on this matter can be obtained by contacting the Commission's TDD terminal on 202-205-1810. General information concerning the Commission may also be obtained by accessing its Internet server (http://www.usitc.gov).

SUPPLEMENTARY INFORMATION

Reopening Record

In order to assist it in making its determination on remand, the Commission is reopening the record in these reviews for the limited purpose of obtaining certain data that exclude floor plate from Belgian producers. This action is taken pursuant to the decision of the U.S. Court of International Trade in Usinor, Industeel, S.A. v. United States, Slip Op. 02-152 (Dec. 20, 2002), holding that the Commission must review certain data without consideration of Belgian floor plate data as a result of the ruling of the U.S. Court of Appeals for the Federal Circuit in Duferco Steel, Inc. v. United States, No. 01-1443 (July 12, 2002). The Commission will provide the parties in Consol. Court No. 01-00006 an opportunity to file comments on any new information received pertaining to that subject.

Participation in the Proceedings

Only those persons who were interested parties to the original administrative proceedings and are also parties to the ongoing litigation (i.e., persons listed on the Commission Secretary's service list and parties to Consol. Court No. 01-00006) may participate in these remand proceedings.

Limited Disclosure of Business Proprietary Information (BPI) Under an Administrative Protective Order (APO) and BPI Service List

Information obtained during the remand investigations will be released to parties under the administrative protective order (“APO”) in effect in the original reviews. Pursuant to section 207.7(a) of the Commission's rules, the Secretary will make business proprietary information gathered in the reviews and in these remand investigations available to additional authorized applicants that are not covered under the original APO, provided that the application is made not later than seven days after publication of the Commission's notice of reopening the record on remand in the Federal Register. Applications must be filed for persons on the Judicial Protective Order in the related CIT case, but not covered under the original APO. A separate service list will be maintained by the Secretary for those parties authorized to receive BPI under the APO in these remand investigations.

Authority: This action is taken under the authority of the Tariff Act of 1930, title VII.

Issued: February 6, 2003.
By order of the Commission.
Marilyn R. Abbott,
Secretary.

[FR Doc. 03-3506 Filed 2-11-03; 8:45 am]

BILLING CODE 7020-02-P